DEPARTMENT OF COMMERCE

National Oceanic and Atmospheric Administration

[RTID 0648-XC938]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council (Council) will hold a meeting of the Scientific and Statistical Committee (SSC).

DATES: The meeting will be held on Tuesday, May 9, 2023, starting at 9:30 a.m. and continue through 1:30 p.m. on Wednesday, May 10, 2023. See SUPPLEMENTARY INFORMATION for agenda details.

ADDRESSES:

Meeting address: This will be an in-person meeting with a virtual option. SSC members, other invited meeting participants, and members of the public will have the option to participate in person at the Hilton Baltimore Harbor Point, 1215 Wills Street, Baltimore, MD, or virtually via Webex webinar. Webinar connection instructions and briefing materials will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review the most recent survey and fishery data and the previously recommended 2024 Acceptable Biological Catch (ABC) for Atlantic Surfclam, Ocean Quahog, Butterfish, Chub Mackerel, Golden Tilefish, and Blueline Tilefish. The SSC will also receive an introductory overview of the recently peer reviewed Spiny Dogfish and Bluefish research track stock assessment information. The Greater Atlantic Regional Fisheries Office will give an overview on the development and peer review outcomes for the Mid-Atlantic/New England Catch Accounting and Monitoring System (CAMS). The SSC will also develop guidance for Council consideration on constant/average ABC recommendations and possible updates to the overfishing limit (OFL) coefficient of variation (CV) guidance document. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: April 17, 2023.
Rey Israel Marquez,
Acting Deputy Director, Office of Sustainable Fisheries, National Marine Fisheries Service.

[FR Doc. 2023-08375 Filed 4-19-23; 8:45 am]

BILLING CODE 3510-22-P